DEPARTMENT OF ENERGY

Record of Decision for the Complex Transformation Supplemental Programmatic Environmental Impact Statement—Operations Involving Plutonium, Uranium, and the Assembly and Disassembly of Nuclear Weapons

AGENCY: National Nuclear Security Administration, U.S. Department of Energy.

ACTION: Record of decision.

SUMMARY: The National Nuclear Security Administration (NNSA), a separately organized agency within the U.S. Department of Energy (DOE), is issuing this Record of Decision (ROD) for the continued transformation of the nuclear weapons complex (Complex). This ROD is based on information and analyses contained in the Complex Transformation Supplemental Programmatic Environmental Impact Statement (SPEIS) (DOE/EIS-0236-S4) issued on October 24, 2008 (73 FR 63460); comments received on the SPEIS; other NEPA analyses as noted; and other factors, including cost, technical and security considerations, and the missions of NNSA. The SPEIS analyzes the potential environmental impacts of alternatives for transforming the nuclear weapons complex into a smaller, more efficient enterprise that can respond to changing national security challenges and ensure the long-term safety, security, and reliability of the nuclear weapons stockpile.

The alternatives analyzed in the SPEIS are divided into two categories: programmatic and project-specific. Programmatic alternatives involve the restructuring of facilities that use or store significant (i.e., Category I/II) quantities of special nuclear material (SNM).¹ These facilities produce plutonium components (commonly called pits ²), produce highly enriched uranium (HEU) components (including secondaries ³), fabricate high explosives (HE) components, and assemble and disassemble nuclear weapons. The decisions announced in this ROD relate to the programmatic alternatives analyzed in the SPEIS. NNSA is issuing a separate ROD relating to the project-specific alternatives.

¹ As defined in section 11 of the Atomic Energy Act of 1954, special nuclear material is: (1) Plutonium, uranium enriched in the isotope 233 or in the isotope 235 and any other material which the U.S. Nuclear Regulatory Commission determines to be special nuclear material; or (2) any material artificially enriched by any of the foregoing. Special nuclear material is separated into Security Categories I, II, III, and IV based on the type, attractiveness level, and quantity of the material. Categories I and II require the highest level of security.

² A pit is the central core of a nuclear weapon, principally made of plutonium or enriched uranium.

³ A secondary is the component of a nuclear weapon that contains elements needed to initiate the fusion reaction in a thermonuclear explosion.

NNSA has decided to implement its preferred programmatic alternative as described in the SPEIS and summarized in this ROD. This decision will transform the plutonium and uranium manufacturing aspects of the complex into smaller and more efficient operations while maintaining the capabilities NNSA needs to perform its national security missions. The three major elements of the decisions announced in this ROD are:

(1) Manufacturing and research and development (R&D) involving plutonium will remain at the Los Alamos National Laboratory (LANL) in New Mexico. To support these activities, NNSA will construct and operate the Chemistry and Metallurgy Research Replacement-Nuclear Facility (CMRR-NF) at LANL as a replacement for portions of the Chemistry and Metallurgy Research (CMR) facility, a structure that is more than 50 years old and faces significant safety and seismic challenges to its continued operation.

(2) Manufacturing and R&D involving uranium will remain at the Y-12 National Security Complex in Tennessee. NNSA will construct and operate a Uranium Processing Facility (UPF) at Y-12 as a replacement for existing facilities that are more than 50 years old and face significant safety and maintenance challenges to their continued operation.

(3) Assembly and disassembly of nuclear weapons and high explosives production and manufacturing will remain at the Pantex Plant in Texas.

These decisions will best enable NNSA to meet its statutory mission while minimizing technical risks, risks to mission objectives, costs, and environmental impacts. These decisions continue the transformation begun following the end of the Cold War and the cessation of nuclear weapons testing, particularly decisions announced in the 1996 ROD for the Programmatic Environmental Impact Statement for Stockpile Stewardship and Management (SSM PEIS) (DOE/EIS-0236) (61 FR 68014; Dec. 26, 1996). This ROD explains why NNSA is making these programmatic decisions, why it is appropriate to make them at this time, and the flexibility NNSA has to adapt these decisions as needed in response to any changes in national security requirements that may occur in the near term.

FOR FURTHER INFORMATION CONTACT: For further information on the Complex Transformation SPEIS or this ROD, or to receive copies of these, contact: Ms. Mary E. Martin, NNSA NEPA Compliance Officer, Office of Environmental Projects and Operations, NA-56, U.S. Department of Energy, 1000 Independence Avenue, SW., Washington, DC 20585, toll free 1-800-832-0885 ext. 69438. A request for a copy of the SPEIS or this ROD may be sent by facsimile to 1-703-931-9222, or by e-mail to complextransformation@nnsa.doe.gov. The SPEIS, this ROD, the project-specific ROD, and additional information regarding complex transformation are available at http://www.ComplexTransformationSPEIS.com and http://www.nnsa.doe.gov.

For information on DOE's NEPA process, contact: Ms. Carol M. Borgstrom, Director, Office of NEPA Policy and Compliance (GC-20), U.S. Department of Energy, 1000 Independence Avenue, SW., Washington, DC 20585, 202-586-4600, or leave a message at 800-472-2756. Additional information regarding DOE NEPA activities and access to many DOE NEPA documents are available through the DOE NEPA Web site at: http://www.gc.energy.gov/NEPA.

SUPPLEMENTARY INFORMATION:

Background

NNSA prepared this ROD pursuant to the regulations of the Council on Environmental Quality (CEQ) for implementing the National Environmental Policy Act (NEPA) (40 CFR Parts 1500-1508) and DOE's NEPA Implementing Procedures (10 CFR Part 1021). This ROD is based on information and analyses contained in the Complex Transformation Supplemental Programmatic Environmental Impact Statement (SPEIS) (DOE/EIS-0236-S4) issued on October 24, 2008 (73 FR 63460); comments received on the SPEIS; other NEPA analyses as noted; other factors, including cost, technical and security considerations, and the missions of NNSA. NNSA received approximately 100,000 comment documents on the Draft SPEIS from Federal agencies; state, local, and tribal governments; public and private organizations; and individuals. In addition, during the 20 public hearings that NNSA held, more than 600 speakers made oral comments.

National security policies require DOE, through NNSA, to maintain the United States' nuclear weapons stockpile, as well as the nation's core competencies in nuclear weapons. Since completing the SSM PEIS and associated ROD in 1996, DOE has pursued these objectives through the Stockpile Stewardship Program. This program emphasizes development and application of greatly improved scientific and technical capabilities to assess the safety, security, and reliability of existing nuclear warheads without nuclear testing. Throughout the 1990s, DOE also took steps to consolidate the Complex to its current configuration of three national laboratories (and a flight test range operated by Sandia National Laboratories), four industrial plants, and a nuclear test site. This Complex enables NNSA to design, develop, manufacture, maintain, and repair nuclear weapons; certify their safety, security, and reliability; conduct surveillance on weapons in the stockpile; store Category I/II SNM; and dismantle and disposition retired weapons. Sites within the Complex and their current weapons program missions are described in the following paragraphs.

Lawrence Livermore National Laboratory (LLNL), Livermore, California—LLNL conducts research, design, and development of nuclear weapons; designs and tests advanced technology concepts; provides safety, security, and reliability assessments and certification of stockpile weapons; conducts plutonium and tritium R&D, hydrotesting, HE R&D and environmental testing; and stores Category I/II quantities of SNM. LLNL also conducts destructive and nondestructive surveillance evaluations on pits to evaluate their reliability. NNSA is currently removing Category I/II SNM from the site and by 2012 LLNL will not maintain these categories of SNM. NNSA is constructing the National Ignition Facility (NIF) at LLNL, which will allow a wide variety of high-energy-density investigations. NIF is scheduled to begin operations in 2009.

Los Alamos National Laboratory (LANL), Los Alamos, New Mexico—LANL conducts research, design, and development of nuclear weapons; designs and tests advanced technology concepts; provides safety, security, and reliability assessments and certification of stockpile weapons; maintains production capabilities for limited quantities of plutonium components (i.e., pits) for delivery to the stockpile; manufactures nuclear weapon detonators for the stockpile; conducts plutonium and tritium R&D, hydrotesting, HE R&D and environmental testing; and stores Category I/II quantities of SNM. LANL also conducts destructive and nondestructive surveillance evaluations on pits to assess their reliability.

Nevada Test Site (NTS), 65 miles northwest of Las Vegas, Nevada—NTS maintains the capability to conduct underground nuclear testing; conducts high hazard experiments involving nuclear material and high explosives; provides the capability to process and dispose of a damaged nuclear weapon or improvised nuclear device; conducts non-nuclear experiments; conducts hydrodynamic testing and HE testing; conducts research and training on nuclear safeguards, criticality safety, and emergency response; and stores Category I/II quantities of SNM.

Pantex Plant (Pantex), Amarillo, Texas—Pantex dismantles retired weapons; fabricates HE components, and performs HE R&D; assembles HE, nuclear, and non-nuclear components into nuclear weapons; repairs and modifies weapons; performs nonintrusive pit modification; ⁴ and evaluates and performs surveillance of weapons. Pantex stores Category I/II quantities of SNM for the weapons program and stores other SNM in the form of surplus plutonium pits pending transfer to SRS for disposition.

⁴ Nonintrusive pit modification involves changes to the external surfaces and features of a pit.

Savannah River Site (SRS), Aiken, South Carolina—SRS extracts tritium and performs loading, unloading, and surveillance of tritium reservoirs, and conducts tritium R&D. SRS does not store Category I/II quantities of SNM for NNSA's weapons activities, but does store Category I/II quantities for other DOE activities. SRS is currently receiving Category I/II surplus, non-pit plutonium from LLNL for storage pending its disposition.

Y-12 National Security Complex (Y-12), Oak Ridge, Tennessee—Y-12 manufactures uranium components for nuclear weapons, cases, and other nuclear weapons components; evaluates and tests these components; stores Category I/II quantities of HEU; conducts dismantlement, storage, and disposition of HEU; and supplies HEU for use in naval reactors.

The following two sites are part of the Complex but would not be affected by decisions announced in this ROD.

Kansas City Plant (KCP), Kansas City, Missouri—KCP manufactures and procures non-nuclear components for nuclear weapons and evaluates and tests these components. KCP has no SNM. The General Services Administration, as the lead agency, and NNSA, as a cooperating agency, prepared an Environmental Assessment (DOE/EA-1592, Apr. 2008) regarding the potential environmental impacts of modernizing the facilities and infrastructure for the non-nuclear production activities conducted by the KCP as well as moving these activities to other locations. The agencies issued a Finding of No Significant Impact (73 FR 23244; Apr. 29, 2008) regarding an alternative site in the Kansas City area. The SPEIS does not assess alternatives for the activities conducted at the KCP.

Sandia National Laboratories (SNL), Albuquerque, New Mexico; Livermore, California; and other locations—SNL conducts systems engineering of nuclear weapons; conducts research, design, and development of non-nuclear components; manufactures non-nuclear components, including neutron generators, for the stockpile; provides safety, security, and reliability assessments of stockpile weapons; and conducts HE R&D, tritium R&D, and environmental testing. The principal laboratory is located in Albuquerque, New Mexico (SNL/NM); a division of the laboratory (SNL/CA) is located in Livermore, California. SNL also operates the Tonopah Test Range (TTR) near Tonopah, Nevada, for flight testing of gravity weapons (including R&D and testing of nuclear weapons components and delivery systems). In 2008, NNSA completed the removal of SNL/NM's Category I/II SNM. SNL/NM no longer stores or uses these categories of SNM on an ongoing basis, although it may use Category I/II SNM for limited periods in the future. No SNM is stored at TTR, although some test operations have involved SNM.

Alternatives Considered

NNSA has been considering how to continue the transformation of the Complex since the Nuclear Posture Review ⁵ was transmitted to Congress by the Department of Defense in early 2002. NNSA considered the Stockpile Stewardship Conference in 2003, the Department of Defense Strategic Capabilities Assessment in 2004, the recommendations of the Secretary of Energy Advisory Board Task Force on the Nuclear Weapons Complex Infrastructure in 2005, and the Defense Science Board Task Force on Nuclear Capabilities in 2006 as to how transformation should continue. Based on these studies and other information, NNSA developed the range of reasonable alternatives for the Complex that could reduce its size, reduce the number of sites with Category I/II SNM (and storage locations for these categories of SNM within sites), eliminate redundant activities, and improve the responsiveness of the Complex. The following programmatic capabilities involving SNM are evaluated in the SPEIS:

⁵ The Nuclear Posture Review is a comprehensive analysis that lays out the direction for the United States' nuclear forces.

• Plutonium operations, including pit manufacturing; Category I/II SNM storage; and related R&D;

• Enriched uranium operations, including canned subassembly manufacturing, assembly, and disassembly; Category I/II SNM storage; and related R&D; and

• Weapons assembly and disassembly and HE production (collectively, A/D/HE).

The programmatic alternatives analyzed in the SPEIS are discussed in the following paragraphs.

No Action Alternative. NNSA evaluated a No Action Alternative, which represents continuation of the status quo including implementation of past decisions. Under the No Action Alternative, NNSA would not make additional major changes to the SNM missions now assigned to its sites.

Programmatic Alternative 1: Distributed Centers of Excellence. This alternative would locate the three major SNM functional capabilities (plutonium, uranium, and weapons assembly and disassembly) involving Category I/II quantities of SNM at two or three separate sites. This alternative would create a consolidated plutonium center (CPC) for R&D, storage, processing, and manufacture of pits. Production rates of up to 125 pits per year for single shift operations and up to 200 pits annually for multiple shifts and extended work weeks are assessed for a CPC in this alternative. A CPC could consist of new facilities, or modifications to existing facilities at LANL, NTS, Pantex, SRS, or Y-12. The SPEIS also evaluated an option under this alternative that would upgrade facilities at LANL to produce up to 80 pits per year. This option would involve the construction and operation of the CMRR-NF. Highly-enriched uranium storage and uranium operations would continue at Y-12. Under this alternative, NNSA analyzed two options—construction of a new UPF and an upgrade of existing facilities at Y-12. The weapons A/D/HE mission would remain at Pantex under this programmatic alternative.

Programmatic Alternative 2: Consolidated Centers of Excellence. NNSA would consolidate the three major SNM functions (plutonium, uranium, and weapons assembly and disassembly) involving Category I/II quantities of SNM at one or two sites under this alternative. Two options were assessed: (1) The single site option (referred to as the consolidated nuclear production center [CNPC] option); and (2) the two-site option (referred to as the consolidated nuclear centers [CNC] option). Under the CNPC option, a new CNPC could be established at LANL, NTS, Pantex, SRS, or Y-12. Under the CNC option, the plutonium and uranium component manufacturing missions would be separate from the A/D/HE mission. The Consolidated Centers of Excellence Alternative assumed production rates of up to 125 weapons per year for single shift operations and up to 200 weapons annually for multiple shifts and extended work weeks.

Programmatic Alternative 3: Capability-Based Alternative. Under this alternative, NNSA would maintain a basic capability for manufacturing components for all stockpile weapons, as well as laboratory and experimental capabilities to support stockpile stewardship, but would reduce production facilities in-place such that NNSA would produce only a nominal level of replacement components (approximately 50 components per year). Within this alternative, NNSA also evaluated a No Net Production/Capability-Based Alternative, in which NNSA would maintain capabilities to continue surveillance of the weapons stockpile, produce limited life components, and dismantle weapons, but would not add new types or increased numbers of weapons to the stockpile. This alternative involves minimum production (i.e., production of 10 sets of components or assembly of 10 weapons per year) within facilities with a larger manufacturing capability. Both options of this alternative would involve the construction and operation of a CMRR-NF.

Preferred Alternative

The Final SPEIS identified the following preferred alternatives for restructuring facilities that use significant quantities of SNM:

• Plutonium R&D and manufacturing: LANL would provide a consolidated plutonium research, development, and manufacturing capability within TA-55 (the Technical Area at LANL containing plutonium processing facilities) enabled by construction and operation of the CMRR-NF. The CMRR-NF would replace the existing CMR facility (a 50-year-old facility that has significant safety issues that cannot be addressed in the existing structure), to support transfer of plutonium R&D and Category I/II quantities of SNM from LLNL, and consolidation of weapons-related plutonium operations, including plutonium R&D and storage of Category I/II quantities of SNM, at LANL. Until completion of a new Nuclear Posture Review in 2009 or later, the net production at LANL would be limited to a maximum of 20 pits per year. Other national security actinide missions (e.g., emergency response, material disposition, nuclear energy) would continue at TA-55.

• Uranium manufacturing and R&D: Y-12 would continue as the uranium center, producing components and canned subassemblies, and conducting surveillance and dismantlement. NNSA completed construction of the Highly Enriched Uranium Materials Facility (HEUMF) in 2008 and will consolidate HEU storage in that facility.⁶ NNSA would build a UPF at Y-12 to provide a smaller and modern highly-enriched uranium production capability, replacing 50-year-old facilities.

⁶ The environmental impacts of HEUMF and its alternatives are analyzed in the Site-wide Environmental Impact Statement for the Y-12 National Security Complex (DOE/EIS-0309, 2001); NNSA announced its decision to construct and operate HEUMF on March 13, 2002 (67 FR 11296).

• Assembly/disassembly/high explosives production and manufacturing: Pantex would remain the assembly/disassembly/high explosives production and manufacturing center. NNSA would consolidate non-destructive weapons surveillance operations at Pantex.

• Consolidation of Category I/II SNM: NNSA would continue ongoing actions to transfer Category I/II SNM from LLNL under the No Action Alternative and phase out Category I/II operations at LLNL by the end of 2012.

Environmentally Preferable Alternative

Section 101 of NEPA (42 U.S.C. 4331) establishes a policy of federal agencies having a continuing responsibility to improve and coordinate their plans, functions, programs, and resources so that, among other goals, the nation may fulfill its responsibilities as a trustee of the environment for succeeding generations. The CEQ, in its “Forty Most Asked Questions Concerning CEQ's NEPA Regulations” (46 FR 18026; Mar. 23, 1981), defines the “environmentally preferable alternative” as the alternative “that will promote the national environmental policy expressed in NEPA's Section 101.”

The analyses in the SPEIS of the environmental impacts associated with the programmatic alternatives indicated that the No Net Production/Capability-Based Alternative is environmentally preferable. This alternative would result in the minimum infrastructure demands (e.g., electricity and water use would be reduced by almost 50 percent at some sites); produce the least amount of wastes (radioactive wastes would be reduced by approximately 33-50 percent compared to the No Action Alternative); reduce worker radiation doses (by approximately 33-50 percent compared to the No Action Alternative); and require the fewest employees (up to 40 percent fewer at some sites). Almost all of these reductions in potential impacts result from the reduced production levels assumed for this alternative.

Alternatives Considered but Eliminated From Detailed Study

NNSA considered programmatic alternatives other than those described above, but concluded that these alternatives were not reasonable and eliminated them from detailed analysis. As discussed in the SPEIS, the following alternatives were considered but eliminated from detailed study: (1) Consolidate the Three Nuclear Weapons Laboratories (LLNL, LANL and SNL); (2) Curatorship Alternative; (3) Smaller CNPC Alternative; (4) New CPC with a Smaller Capacity; (5) Purchase Pits; (6) Upgrade Building 332 at LLNL to enable pit production; (7) Consider Other Sites for the CPC; (8) Redesign Weapons to Require Less or No Plutonium; and (9) Do Not Produce New Pits (see Section 3.15, Volume I of the SPEIS).

Decisions

With respect to the three major SNM functional capabilities (plutonium, uranium, and weapons assembly and disassembly) involving Category I/II quantities of SNM, NNSA has decided to keep these functional capabilities at three separate sites:

• Plutonium manufacturing and R&D will remain at LANL, and NNSA will construct and operate the CMRR-NF there to support these activities;

• Uranium manufacturing and R&D will remain at Y-12 and NNSA will construct and operate a UPF there to support these activities;

• Assembly/disassembly/high explosives production and manufacturing will remain at Pantex.

With respect to SNM consolidation, NNSA will continue ongoing activities ⁷ to transfer Category I/II SNM from LLNL under the No Action Alternative and phase out Category I/II operations at LLNL by the end of 2012.

⁷ In regard to surplus, non-pit, weapons-usable plutonium currently at LLNL, transfer to SRS for storage pending disposition is being undertaken consistent with decisions announced on September 11, 2007, in an Amended ROD (72 FR 51807) based on the Storage and Disposition of Weapons-Usable Fissile Materials Programmatic EIS.

Bases for Decisions

Overview

NNSA's decision locates the three major functional capabilities involving Category I/II quantities of SNM at three separate sites where these missions are currently performed. The selected alternative, which is a combination of the Distributed Centers of Excellence and Capability-Based Alternatives, has the least cost and lowest risk. Consolidation or transfer of uranium and plutonium operations to other sites (as analyzed in several options under the Distributed and Consolidated Centers of Excellence Alternatives) could result in lower operational costs and other benefits if and when such an alternative were fully implemented. However, movement of any of these three major capabilities to another site poses unacceptable programmatic risks and would cost far more than the selected alternative for an extended period of time. Moving one or more of these capabilities would take years to achieve and might be unsuccessful; in the interim, NNSA would need to build some new facilities at the sites where these capabilities are currently located simply to maintain those capabilities during the relocation process.

Similarly, the No Action Alternative is unacceptable because it would require NNSA to continue operations in facilities that are outdated, too costly to operate, and not capable of meeting modern environment, health and safety (ES&H) or security standards. These facilities cannot be relied upon much longer, and must be replaced or closed.

Under NNSA's decision, plutonium operations remain at LANL. It will not construct a new pit manufacturing facility such as a CPC or a CNPC because it appears unlikely there will be a need to produce more than 10-80 pits per year in the future and because constructing these facilities would be very expensive. Instead, NNSA will upgrade the existing plutonium facilities at the laboratory and will construct a CMRR-NF.⁸ Construction of this facility is a needed modernization of LANL's plutonium capabilities—continued use of the existing CMR facility is inefficient and poses ES&H and security issues that cannot be addressed by modifying the CMR. Uranium operations remain at Y-12, and NNSA will construct a UPF because the existing uranium production facilities are also beyond their useful lives, inefficient, and present ES&H and security issues similar to those at CMR. CMRR-NF and UPF will be safer, seismically robust, and easier to defend from potential terrorist attacks. Their size will support production rates appropriate for a reasonable range of future stockpile sizes, and would not be much smaller if future production rates were much lower than currently anticipated.⁹

⁸ NNSA prepared an Environmental Impact Statement for the Chemistry and Metallurgy Research Building Replacement Project at Los Alamos National Laboratory, Los Alamos, New Mexico (CMRR EIS) (DOE/EIS-0350). The CMRR EIS evaluates potential impacts of the proposed relocation of analytical chemistry and materials characterization activities and associated R&D to a new CMRR. The proposed CMRR consists of a nuclear facility—CMRR-NF—and a separate radiological laboratory, administrative office, and support building. See also the 2008 Site-Wide Environmental Impact Statement for Los Alamos National Laboratory (2008 LANL SWEIS, DOE/EIS-0380). In deciding to construct the CMRR-NF at LANL, NNSA considered the analyses in the CMRR EIS and the 2008 LANL SWEIS, as well as those in the SPEIS.

⁹ NNSA evaluated various sizes for facilities analyzed in the SPEIS to determine if smaller facilities should be considered in detail for the Distributed and Consolidated Centers of Excellence Alternatives. NNSA evaluated the programmatic risk, cost effectiveness, and environmental impacts of smaller facilities and concluded that smaller facilities were not reasonable for some of these alternatives (see Section 3.15 of the SPEIS). Smaller facilities were considered for the Capability-Based Alternative.

Plutonium Operations

With respect to plutonium manufacturing, NNSA is not making any new decisions regarding production capacity until completion of a new Nuclear Posture Review in 2009 or later. NNSA does not foresee an imminent need to produce more than 20 pits per year to meet national security requirements. This production level was established almost 10 years ago in the ROD (64 FR 50797, Sept. 20, 1999) based on the Site-wide Environmental Impact Statement for Continued Operation of the Los Alamos National Laboratory (1999 LANL SWEIS; DOE/EIS-0238). The ROD based on the 2008 LANL SWEIS (DOE/EIS-0380) continued this limit on production (73 FR 55833; Sept. 26, 2008). NNSA will continue design of a CMRR-NF that would support a potential annual production (in LANL's TA-55 facilities) of 20-80 pits. The design activities are sufficiently flexible to account for changing national security requirements that could result from a new Nuclear Posture Review, further changes to the size of stockpile, or future Federal budgets. Furthermore, because NNSA's sensitivity analyses have shown that there is little difference in the size of a facility needed to support production rates between 1 and 80 components per year, the future production capacity is not anticipated to have a significant impact on the size of the CMRR-NF.¹⁰ With a new CMRR-NF providing support, the existing plutonium facility at LANL will have sufficient capability to produce between 1 and 80 pits per year. A new CMRR-NF will also allow NNSA to better support national security missions involving plutonium and other actinides (including, e.g., the plutonium-238 heat source program undertaken for the National Aeronautics and Space Administration (NASA); non-proliferation programs, including the sealed source recovery program; emergency response; nuclear counter-terrorism; nuclear forensics; render safe program (program to disable improvised nuclear devices); material disposition; and nuclear fuel research and development).

¹⁰ See note 9 supra.

Uranium Operations

With respect to uranium manufacturing, NNSA will maintain the current capacity in existing facilities at Y-12 as discussed in Section 3.5 of the SPEIS and within the planning basis discussed in Section 3.1.2 of the 2001 Site-wide Environmental Impact Statement for the Y-12 National Security Complex (2001 Y-12 SWEIS; DOE/EIS-0309). NNSA is preparing a new SWEIS for Y-12 (Site-wide Environmental Impact Statement for the Y-12 National Security Complex, Oak Ridge, Tennessee (Y-12 SWEIS; DOE/EIS-0387)), which will evaluate site-specific issues associated with continued production operations at Y-12, including issues related to construction and operation of a UPF such as its location and size. The Y-12 SWEIS will consider any new information (such as a new Nuclear Posture Review or further changes to the stockpile) that becomes available during the preparation of that document.

Assembly and Disassembly of Weapons and High Explosives Production

NNSA will continue to conduct these operations at Pantex as announced in the ROD (62 FR 3880; Jan. 27, 1997) for the Environmental Impact Statement for the Continued Operation of the Pantex Plant and Associated Storage of Nuclear Weapon Components (DOE/EIS-0225, 1996).

Production Rates and New Facilities

While NNSA is not making any new decisions regarding the production rates of plutonium or uranium components, it has decided that a CMRR-NF and UPF are essential to its ability to meet national security requirements regarding the nation's nuclear deterrent. The existing facilities where these operations are now conducted cannot be used much longer and cannot be renovated in a manner that is either affordable or acceptable (from ES&H, security, and production perspectives). As NNSA continues the design and, in the case of a UPF, NEPA analysis of these facilities, it can modify them to reflect changing requirements such as those resulting from a new Nuclear Posture Review, further changes to stockpile size, and future federal budgets. In short, a CMRR-NF and UPF are needed for NNSA to maintain its basic nuclear weapons capabilities because they would replace outdated and deteriorating facilities. These facilities are needed regardless of how many or what types of weapons may be called for in the future.

National Security Requirements and Stockpile Size

In making these decisions, NNSA considered its statutory responsibilities to support the nuclear weapons stockpile as determined by the President and the Congress. President Bush's goal is to achieve a credible nuclear deterrent with the lowest possible number of nuclear warheads consistent with national security needs. In 2002, he and Russia's President Putin signed the Moscow Treaty, under which the United States and Russia will each reduce the number of operationally deployed strategic nuclear weapons to 1,700-2,200 by 2012. In 2004, President Bush issued a directive to cut the entire U.S. stockpile—both deployed and reserve warheads—in half by 2012. This goal was later accelerated and achieved in 2007, five years ahead of schedule. At the end of 2007, the total stockpile was almost 50 percent below what it was in 2001. On December 18, 2007, the White House announced the President's decision to reduce the entire nuclear weapons stockpile by another 15 percent by 2012. This means the U.S. nuclear stockpile will be less than one-quarter its size at the end of the Cold War—the smallest stockpile since the Eisenhower Administration.

NNSA's analyses in the SPEIS are based on current national policy regarding stockpile size (1,700-2,200 operationally deployed strategic nuclear warheads by 2012) with flexibility to respond to future Presidential direction to make further changes in the numbers of weapons. Maintaining a stockpile requires the ability to detect aging effects and other changes in weapons (a surveillance program), the ability to fix identified problems without nuclear testing (the stockpile stewardship program), and the ability to produce replacement components and reassemble weapons (a fully capable set of production facilities).

NNSA understands that at least two major reviews of the requirements for the future nuclear weapons program are expected during the next year. These reviews may influence the size and composition of the future nuclear weapons stockpile, and the nuclear infrastructure required to support that stockpile. First, the Congress has established the Congressional Commission on the Strategic Posture of the United States. This commission is to conduct a review of the strategic posture of the United States, including a strategic threat assessment and a detailed review of nuclear weapons policy, strategy, and force structure. Its recommendations, currently scheduled for completion in the spring of 2009, are expected to address the size and nature of the future nuclear weapons stockpile, and the capabilities required to support that stockpile. Second, Congress has directed the Administration to conduct another Nuclear Posture Review in 2009 to clarify the United States' nuclear deterrence policy and strategy for the near term (i.e., the next 5-10 years). A report on this Nuclear Posture Review is due on December 1, 2009.

NNSA has structured its programs and plans in a manner that allows it to continue transforming the complex and to replace antiquated facilities while retaining the flexibility to respond to evolving national security requirements, which is essential for a truly responsive infrastructure. The decisions in this ROD allow NNSA to continue to rely on LANL facilities (with a new CMRR-NF) to provide maximum flexibility to respond to future changes in plutonium requirements.

Costs, Technical Risks, and Other Factors

NNSA prepared detailed business case studies of the programmatic alternatives. These studies are available at http://www.ComplexTransformationSPEIS.com. They provide a cost comparison of the alternatives and include costs associated with construction, transition, operations, maintenance, security, decontamination and decommissioning, and other relevant factors.¹¹ Based on these studies, NNSA determined that the costs through 2030 for the consolidation alternatives would be approximately 20-40 percent greater than for the alternatives that would maintain the three major capabilities—plutonium operations, uranium operations, and A/D/HE operations—at their current sites. Additionally, NNSA's analysis found that, through 2060, the costs for the consolidation alternatives would be greater than those for the alternatives that maintain the three capabilities where they are currently located.

¹¹ The cost analyses considered both life-cycle costs (i.e., the cumulative costs over an approximately 50-year life) and discounted cash flows (i.e., a net present value in which all future costs are reduced by a common factor (generally the cost of capital)).

With respect to technical risk, as part of the business case studies, NNSA evaluated five types of risk: (1) Engineering and construction; (2) implementation; (3) program; (4) safety and regulatory; and (5) security. These analyses balance nearer-term risks incurred while transitioning to an alternative with longer-term operational risks. For example, consolidation alternatives would have higher risks during the transition due to the challenges associated with mission relocations, but could have lower long-term operational risks because of reduced safety, regulatory, or security risks. All risk criteria were rated equally (20 percent each); a sensitivity analysis determined that the conclusions were not significantly affected by adjustments of plus or minus five percent in risk rating criteria.

The risk assessment was performed by a group of NNSA and contractor employees who are subject-matter experts, site experts, or both. The least risky options are those where the sites have previous experience with the mission or the nuclear material used in that mission. Alternatives that would locate the plutonium mission at LANL or SRS, the uranium mission at Y-12, and the weapons assembly and disassembly mission at Pantex, were determined to pose the lowest risk. Overall, the consolidation alternatives were judged to have 25-160 percent more technical risk than alternatives that would not consolidate or relocate missions.

With respect to plutonium R&D and manufacturing, the cost and risk analyses showed that keeping this mission at LANL has the least cost and poses the lowest risk. This results primarily from the fact that plutonium facilities are very expensive to construct and LANL has existing facilities, infrastructure, and trained personnel that can be used for this mission.

The CMRR-NF was analyzed in the Environmental Impact Statement for the Chemistry and Metallurgy Research Building Replacement Project at Los Alamos National Laboratory, Los Alamos, New Mexico (DOE/EIS-0350, Nov. 2003). The CMRR EIS evaluated potential environmental impacts of the proposed relocation of analytical chemistry and materials characterization activities and associated R&D to a new CMRR. Following completion of that EIS, NNSA announced its decision to construct and operate a CMRR consisting of two main buildings, one of which was the CMRR-NF (69 FR 6967; Feb. 12, 2004). The second building—providing laboratory, administrative, and support functions—currently is under construction at LANL. However, NNSA decided to defer a decision regarding construction and operation of the CMRR-NF until it completed the Complex Transformation SPEIS (see Section 1.5.2.1, Volume 1 of the SPEIS).

Analyses of the potential impacts of constructing and operating the CMRR-NF were updated in the Site-Wide Environmental Impact Statement for Continued Operation of Los Alamos National Laboratory, Los Alamos, New Mexico (2008 LANL SWEIS; DOE/EIS-0380, May 2008) as part of the Expanded Operations and the No Action Alternatives. In a ROD based on the 2008 LANL SWEIS, NNSA announced its decision to continue to implement the No Action Alternative with the addition of some elements of the Expanded Operations Alternative. NNSA did not make any decision related to the CMRR-NF. It explained in the SWEIS ROD that it would not make any decisions regarding proposed actions analyzed in the SPEIS prior to completion of the SPEIS (73 FR 55833; Sept. 26, 2008). NNSA considered the analyses in the CMRR EIS and the 2008 LANL SWEIS, as well as those in the SPEIS in deciding to construct the CMRR-NF.

With respect to uranium manufacturing and R&D, the cost analyses indicated that building a UPF at Y-12, eliminating excess space, and shrinking the security area at the site will significantly reduce annual operational costs. The UPF at Y-12 will replace 50-year-old facilities, providing a smaller and modern production capability. It will enable NNSA to consolidate enriched uranium operations from six facilities at Y-12, and to reduce the size of the protected area at that site by as much as 90 percent. A new UPF will also allow NNSA to better support broader national security missions. These missions include providing fuel for Naval Reactors; processing and down-blending incoming HEU from the Global Threat Reduction Initiative; down-blending HEU for domestic and foreign research reactors in support of nonproliferation objectives; providing material for high-temperature fuels for space reactors (NASA); and supporting nuclear counter-terrorism, nuclear forensics, and the render safe program (program to disable improvised nuclear devices).

The life cycle cost analysis predicts an average annual savings over the 50-year facility life of approximately $200 million in FY 2007 dollars. The risk analysis found that moving the uranium mission to a site other than Y-12 would more than double the technical risks. The site-specific impacts for a UPF, including issues such as its location and size, will be analyzed in a new SWEIS for Y-12 that NNSA is currently preparing.

With respect to weapons assembly and disassembly and high explosives production, NNSA's decision to keep that mission at Pantex will result in the least cost and pose the lowest programmatic risk because the facilities necessary to conduct this work safely and economically already exist. Although no further NEPA analysis is required to continue these missions at Pantex, NNSA will continue to evaluate and update site-specific NEPA documentation as required by DOE regulations (10 CFR Part 1021).

With respect to SNM removal from LLNL, transferring Category I/II SNM to other sites and limiting LLNL operations to Category III/IV SNM will achieve a security savings of approximately $30 million per year at LLNL.

Potential Environmental Impacts

As described in greater detail in the following paragraphs, NNSA considered potential environmental impacts in making these decisions. It analyzed the potential impacts of each alternative on land use; visual resources; site infrastructure; air quality; noise; geology and soils; surface and groundwater quality; ecological resources; cultural and paleontological resources; socioeconomics; human health impacts; environmental justice; and waste management. NNSA also evaluated the impacts of each alternative as to irreversible or irretrievable commitments of resources, the relationship between short-term uses of the environment and the maintenance and enhancement of long-term productivity, and cumulative impacts. In addition, it evaluated impacts of potential accidents on workers and surrounding populations. The SPEIS includes a classified appendix that assesses the potential environmental impacts of a representative set of credible terrorist scenarios.

The environmental impacts of the alternatives are analyzed in Chapter 5 of the SPEIS. The impacts of the alternatives NNSA has decided to pursue are summarized as follows:

Land Use—Minor land disturbance during construction of new facilities (approximately 6.5 acres at LANL for a CMRR-NF and 35 acres at Y-12 for a UPF); less area would be disturbed after construction is complete. At Y-12, construction of a UPF will allow NNSA to reduce the protected area by as much as 90 percent, which will improve security and reduce costs. At all sites, land uses will remain compatible with surrounding areas and with land use plans. At LANL and Y-12, the land required for operations will be less than 1 percent of the sites' total areas.

Visual Resources—Changes consistent with currently developed areas, with no changes in the Visual Resource Management classification. All sites will remain industrialized.

Infrastructure—Existing infrastructure is adequate to support construction and operating requirements at all sites. During operations, any changes to power requirements would be less than 10 percent of the electrical capacity at each site.

Air Quality—During construction, temporary emissions will result, but National Ambient Air Quality Standards will not be exceeded as a result of this construction. Operations will not introduce any significant new emissions and will not exceed any standards.

Water Resources—Water use will not change significantly compared to existing use and will remain within the amounts of water available at the NNSA sites. Annual water use at each site will increase by less than 5 percent.

Biological Resources—No adverse effects on biota and endangered species. Consultations with the U.S. Fish and Wildlife Service have been completed for the CMRR-NF. Consultations with the Fish and Wildlife Service will be conducted for a UPF during preparation of the Y-12 SWEIS.

Socioeconomics—Short-term employment increases at LANL and Y-12 during construction activities. The selected alternatives will have the least disruptive socioeconomic impacts at all sites. At Y-12, the total workforce will be reduced by approximately 750 workers (approximately 11 percent of the site's workforce) after UPF becomes operational. Employment at all other sites will change by less than 1 percent compared to any changes expected under the No Action Alternative.

Environmental Justice—No disproportionately high and adverse effects on minority or low-income populations will occur at any affected site; therefore, no environmental justice impacts will occur.

Health and Safety—Radiation doses to workers and the public will remain well below regulatory limits at all facilities and at all sites. Doses to the public and workers will cause less than one latent cancer fatality annually at all sites. Conducting future operations in the CMRR-NF and UPF will reduce the dose to workers compared to the doses they receive in existing facilities.

Accidents—The risk of industrial accidents is expected to be low during construction of the new facilities. Radiological accident risks will be low (i.e., probabilities of less than one latent cancer fatality) at all sites. The CMRR-NF and a UPF are expected to reduce the probability and impacts of potential accidents.

Intentional Destructive Acts—Construction of a UPF and CMRR-NF will provide better protection to the activities conducted in these facilities, as it is generally easier and more cost-effective to protect new facilities because modern security features can be incorporated into their design. Although the results of the intentional destructive acts analyses cannot be disclosed, the following general conclusion can be drawn: The potential consequences of intentional destructive acts are highly dependent upon distance to the site boundary and size of the surrounding population—the closer and higher the surrounding population, the higher the potential consequences. Removal of SNM from LLNL will reduce the potential impacts of intentional destructive acts at that site.

Waste Management—Waste generation will remain within existing and planned management capabilities at all sites. Existing waste management facilities are sufficient to manage these wastes and maintain compliance with regulatory requirements.

Cumulative Impacts—The cumulative environmental impacts of the alternatives are analyzed in Chapter 6 of the SPEIS. The impacts of the alternatives when added to past, present, and reasonably foreseeable future actions will be within all regulatory standards and not result in significant new impacts.

Mitigation Measures

As described in the SPEIS, NNSA operates in compliance with environmental laws, regulations, and policies within a framework of contractual requirements; many of these requirements mandate actions to control and mitigate potential adverse environmental effects. Examples include site security and threat protection plans, emergency plans, Integrated Safety Management Systems, pollution prevention and waste minimization programs, cultural resource and protected species programs, and energy and water conservation programs (e.g., the Leadership in Energy and Environmental Design (LEED) Program). Any additional site-specific mitigation actions would be identified in site-specific NEPA documents.

Comments Received on the Final SPEIS Related to the Programmatic Alternatives

During the 30-day period following the EPA's notice of availability for the Final SPEIS (73 FR 63460; Oct. 24, 2008), NNSA received written comments from the following groups: Alliance for Nuclear Accountability, Project on Government Oversight, National Radical Women, Physicians for Social Responsibility, Oak Ridge Environmental Peace Alliance, Tri-Valley CAREs, the Union of Concerned Scientists, Nuclear Watch New Mexico, the Arms and Security Initiative of the New America Foundation, Concerned Citizens for Nuclear Safety, Embudo Valley Environmental Group, Ecology Ministry, Loretto Community, Aqua es Vida Action Team, Citizens for Alternatives to Radioactive Dumping, and Tewa Women United. Written comments were also received from approximately 30 individuals. The comments NNSA received related to the programmatic alternatives and NNSA's responses follow.

Some commenters substantively reiterated comments that they had provided earlier on the Draft SPEIS, including comments that suggested:

1. NNSA should make no decisions on Complex Transformation until a new Nuclear Posture Review has been completed by the newly elected administration and the report issued by the Congressional Commission on the Strategic Posture of the United States.

Response: NNSA believes the SPEIS analysis is consistent with and supports national security requirements and policies. It is unreasonable to assume that nuclear weapons would not be a part of this nation's security requirements over the time period analyzed in the SPEIS and beyond. The range of alternatives analyzed in the SPEIS covers the range of national security requirements that NNSA believes could reasonably evolve from any changes to national policy with regard to the size and number of nuclear weapons in the foreseeable future. Accordingly, there is no reason to delay the decisions announced in this ROD on complex transformation pending a new Nuclear Posture Review or the recommendations of the Bipartisan Panel reevaluating the United States' Nuclear Strategic Posture (see Comment Response 1.C, Volume III, Chapter III of the SPEIS). This ROD fully explains why NNSA is making these programmatic decisions, why it is appropriate to make these decisions at this time, and the flexibility NNSA has to adapt to any changes in national security requirements that may occur in the near term.

2. The United States does not need nuclear weapons or the infrastructure that produces and maintains them and should pursue disarmament consistent with the Nuclear Non-Proliferation Treaty.

Response: Decisions on whether the United States should possess nuclear weapons and the type and number of those weapons are made by the President and the Congress. As long as this nation has nuclear weapons, a Complex must exist to ensure their safety, security and reliability. NNSA believes the SPEIS analysis is consistent with and supports national security requirements and policies (see Comment Responses 1.0, 2.K.12, and 3.0, Volume III, Chapter III of the SPEIS).

3. There is no need to produce new pits (or no need for certain production rates).

Response: While pits may have extremely long lifetimes and there may ultimately be no need to produce many additional ones, prudence requires that the nation have the capability to produce pits should the need arise. NNSA is not proposing to manufacture any pits unless they are needed to meet national security requirements. A need to produce pits could arise due to the effects of aging on existing pits or changes to our national security policies that could require more pits than the few NNSA is currently manufacturing for stockpile surveillance (see Comment Responses 2.K.16, 2.K.22, and 5.C.1, Volume III, Chapter III of the SPEIS). Until completion of a new Nuclear Posture Review in 2009 or later, the net production at LANL will be limited to a maximum of 20 pits per year.

4. NNSA should undertake further efforts at compliance with Article VI of the Nuclear Non-proliferation Treaty (NPT) (or, Complex Transformation violates this treaty).

Response: The United States has made significant progress toward achieving the nuclear disarmament goals set forth in the NPT, and is in compliance with its Article VI obligations. The NPT does not mandate disarmament or specific stockpile reductions by nuclear states, and it does not address actions they take to maintain their stockpiles. NNSA disagrees with the assertion that Complex Transformation violates the NPT (see Comment Response 1.F, Volume III, Chapter III of the SPEIS).

5. NNSA should have included Stockpile Curatorship as a reasonable alternative fully considered in the SPEIS.

Response: The Curatorship Alternative as proposed by comments on the Draft SPEIS would have required NNSA to give up the capabilities to design and develop replacement nuclear components and weapons, forcing it to rely solely on the surveillance and non-nuclear testing program to maintain weapons and identify when they need repairs. NNSA believes it is unreasonable to give up these capabilities in light of the uncertainties concerning the aging of weapons and changing national security requirements. As explained in the SPEIS in Section 3.15, this would impair NNSA's ability to assess and, if necessary, address issues regarding the safety, security, and reliability of nuclear weapons (see Comment Responses 2.H.2, 5.H.2, and 7.O, Volume III, Chapter III of the SPEIS).

6. The transformed complex should not support design or production of new design or modified nuclear weapons.

Response: NNSA is required to maintain nuclear weapons capabilities, including the capability to design, develop, produce, and certify new warheads. Maintenance of the capability to certify weapons' safety and reliability requires an inherent capability to design and develop new weapons. NNSA has not been directed to produce newly designed weapons (see Comment Responses 1.B, Volume III, Chapter III of the SPEIS).

7. NNSA should provide additional information on epidemiological studies of radiation health of workers and communities.

Response: Many of the workers at DOE's 20 major sites have been studied epidemiologically, some for decades. The National Institute for Occupational Safety and Health continues to update these studies as warranted by public health and scientific considerations. As more powerful epidemiological study designs become available, new studies of these workers may provide better information about health risks associated with radiation exposure (see Comment Responses 14.K.5 and 14.K.6, Volume III, Chapter III of the SPEIS). Many of the epidemiological studies and other related studies are available at http://cedr.lbl.gov.

8. NNSA should focus on clean-up of its sites rather than building new facilities to make weapons.

Response: DOE has a large remediation program and is aggressively addressing past contamination issues at each of its sites. This program is conducted in accordance with federal and state regulatory requirements and includes administrative and engineered controls to minimize releases, as well as surveillance monitoring of the environment and reporting of exposure assessments. These remediation activities are directed by federal and state regulators, have their own schedule and funding, and are separate from actions proposed in the SPEIS (see Comment Responses 7.J and 9.B, Volume III, Chapter III of the SPEIS). It is inaccurate to suggest that cleanup and transformation are mutually exclusive.

9. NNSA should consolidate special nuclear material from LLNL faster than its current schedule.

Response: NNSA has begun the removal of Category I/II SNM from LLNL, and plans to complete it by 2012. NNSA will continue to give this action the high priority requested by the commenter. Safety, security, and logistical issues associated with preparing SNM for shipment; shipping the materials; and storage at the receiving sites determine the schedule for completing this removal (see Comment Response 5.N.4, Volume III, Chapter III of the SPEIS).

10. The modernization of the Kansas City Plant should have been included in the SPEIS.

Response: The activities of the Kansas City Plant were not included in the SPEIS because NNSA concluded that decisions regarding the consolidation and modernization of the Kansas City Plant's activities (the production and procurement of electrical and mechanical non-nuclear components) would not affect or limit the programmatic alternatives analyzed in the SPEIS, or the decisions NNSA makes regarding these alternatives (see Comment Response 12.0, Volume III, Chapter III of the SPEIS).

11. The SPEIS is not written in plain language and lacks a clear format.

Response: NNSA prepared the SPEIS in accordance with the requirements of NEPA and the DOE and CEQ NEPA regulations. NNSA believes that the SPEIS is clearly written and organized in light of the highly technical subject matter and complex nature of the alternatives (see Comment Response 2.A, Volume III, Chapter III of the SPEIS).

12. NNSA inadequately addressed the environmental impacts of intentional destructive acts. NNSA must disclose the potential impacts of successfully executed credible terrorist attack scenarios at sites in the nuclear weapons complex and make this information available to the public.

Response: A classified appendix to the Complex Transformation SPEIS evaluates the potential environmental impacts of credible terrorist attacks that NNSA assumed (for purposes of analysis pursuant to NEPA) were successful at specific existing and proposed facilities. The appendix is classified both because the scenarios evaluated contain classified information and because there is a risk that these scenarios and their potential impacts could be exploited by terrorists or others contemplating harmful acts. Therefore, the SPEIS provides limited information about these acts and their potential consequences (see “Potential Environmental Impacts” above and Comment Responses 13.B and 13.D, Volume III, Chapter III of the SPEIS).

13. NNSA failed to consider long-acting consequences of nuclear weapons production, including the impacts that result from every year of operation. NNSA also failed to consider the deployment or potential use of the nation's nuclear arsenal.

Response: The SPEIS assesses the direct, indirect, and cumulative environmental impacts of the No Action Alternative and reasonable alternatives for the proposed action. Impacts are assessed for both construction and operations. For operations, the SPEIS focuses on the steady-state impacts of operations. Those annual operational impacts are assumed to occur year-after-year. Now that NNSA has made decisions regarding programmatic alternatives, it may need to prepare additional NEPA documents such as site- or facility-level analyses (e.g., the ongoing Y-12 SWEIS for a UPF now that NNSA has decided to locate it at Y-12) (see Comment Response 11.0, Volume III, Chapter III of the SPEIS). NNSA does not make decisions concerning the size, deployment or potential use of the nation's nuclear arsenal, and therefore the consequences of these decisions are not appropriate for analysis in the SPEIS.

14. NNSA inadequately addressed the cumulative impacts of the alternatives, including a detailed and careful analysis of the cumulative impacts of major nuclear-related facilities in New Mexico. Additionally, Comment Response 14.J.4 incorrectly states that Appendix C and D include information about an analysis of cumulative impacts with an extended region of influence of 100 miles.

Response: NNSA addressed potential cumulative impacts resulting from Complex Transformation and ongoing and reasonably anticipated actions of NNSA, other agencies and private developers. In response to public comments, NNSA added a detailed analysis of the cumulative impacts of major nuclear-related facilities in New Mexico. NNSA thinks that analysis is appropriately detailed. The assessment of cumulative impacts is in Chapter 6 of Volume II of the SPEIS (see Comment Responses 2.I and 14.O, Volume III, Chapter III of the SPEIS). With respect to the analysis of cumulative impacts with an extended region of influence of 100 miles, NNSA agrees that the Final SPEIS incorrectly referred the reader to Appendix C and D. NNSA intended to refer the reader to the LANL SWEIS, which shows that extending the region of influence out another 50 miles increases the affected population by 300 percent, while the population dose increases by only 13 percent. NNSA regrets this error.

15. NNSA inadequately addressed Environmental Justice, including a more detailed analysis of transportation impacts and waste disposal.

Response: Under Executive Order 12898, NNSA is responsible for identifying and addressing potential disproportionately high and adverse human health and environmental impacts on minority or low-income populations. Based on the SPEIS's analyses, NNSA concluded that there would not be any disproportionately high and adverse human health and environmental impacts on minority or low-income populations. In response to public comments received, NNSA also included information regarding a “special pathways analysis” for operations at LANL for the purpose of assessing how impacts would change compared to standard modeling results. The special pathway analysis is identified in Volume II, Chapter 5, Section 5.1.10 of the SPEIS, and the results of that analysis are presented in Comment Response 14.J, Volume III, Chapter III of the SPEIS.

16. NNSA inadequately addressed the impacts associated with design and production of Reliable Replacement Warheads.

Response: The continuing transformation of the complex is independent of decisions regarding Reliable Replacement Warheads that the Congress and President may make. At present, the Congress has declined to provide additional funding for development of these warheads (see Comment Responses 2.K.19 and 8.0, Volume III, Chapter III of the SPEIS).

17. NNSA has provided an inadequate basis to decide to locate a UPF at Oak Ridge and there is insufficient information in the SPEIS to select a site for a UPF.

Response: Programmatic alternatives regarding a UPF are analyzed in the SPEIS. The SPEIS is the appropriate document to analyze and support programmatic decisions related to major uranium missions and facilities. The Y-12 SWEIS, currently under preparation, will evaluate site-specific issues associated with continued production operations at Y-12, including issues related to construction and operation of a UPF such as its location and size. NNSA will make decisions regarding the specific location and size based on the more detailed analysis that will be in the Y-12 SWEIS (see Comment Response 5.C.2, Volume III, Chapter III of the SPEIS).

18. Commenters said that NNSA should accelerate consolidation of excess SNM and down-blend hundreds of metric tons of excess HEU, which is highly desirable to nuclear terrorists who could use it to quickly and easily create a crude nuclear device.

Response: Disposal of excess SNM is addressed by the Material Disposition Program. NNSA has an ongoing program to down-blend HEU for disposition, as described in the ROD (61 FR 40619; August 5, 1996) for the Disposition of Surplus Highly Enriched Uranium Environmental Impact Statement (DOE/EIS-0240, 1996). The potential environmental impacts of an intentional destructive act, such as terrorism or sabotage, are addressed in a classified appendix to the SPEIS (see Comment Responses 5.M, 5.N, and 13.0, Volume III, Chapter III of the SPEIS).

19. NNSA should not move forward with the construction of the CMRR-NF at LANL because of problems with NNSA construction projects, the federal government's limited economic resources, and adequate existing space at the LANL PF-4. Another commenter asked why the CMRR-NF is needed.

Response: As explained in detail in this ROD, the CMRR-NF is a needed modernization of LANL's plutonium capabilities. Continued use of the existing CMR facility is inefficient and poses ES&H and security concerns that cannot be addressed by modifying the CMR. The CMRR-NF will be safer, seismically robust, and easier to defend from potential terrorist attacks (see Comment Responses 3.0, 5.C.1, 5.C.6, and 9.0, Volume III, Chapter III of the SPEIS).

20. The potential environmental impacts of postulated accidents are not adequately addressed in the SPEIS, including the potential impacts to air, land, and water resulting from postulated accidents.

Response: Accidents are addressed in the Health and Safety Sections for each site and include analyses for a full spectrum of accidents with both high and low probabilities (see Comment Response 14.N, Volume III, Chapter III of the SPEIS). The accident analysis focused on human health impacts, which NNSA decided was a reasonable metric for comparing the programmatic alternatives.

21. A new, more thorough, more transparent cost analysis needs to be done before Complex Transformation plans are allowed to proceed.

Response: The purpose and need for complex transformation result from NNSA's need for a nuclear weapons complex that can be operated less expensively. NNSA prepared business case analyses to provide cost information on the alternatives considered in the SPEIS. NNSA considered these studies, the analyses in the SPEIS, and other information to make these decisions regarding transforming the complex. The business case analyses are available to the public on the project Web site: http://www.ComplexTransformationSPEIS.com (see Comment Response 9.0, Volume III, Chapter III of the SPEIS). NNSA believes these studies are adequate for making programmatic and project-specific decisions.

22. NNSA failed to consider an alternative that truly consolidates the nuclear weapons complex.

Response: The SPEIS analyzes alternatives that would make the complex more efficient and responsive than it would be under the No Action Alternative. Consolidation alternatives were formulated with that purpose and need in mind. The SPEIS assesses a range of reasonable alternatives for the future weapons complex that includes alternatives that, if they had been selected, would have eliminated one or more nuclear weapons complex sites (see Comment Responses 7.A.5, 7.A.6, and 7.A.7, Volume III, Chapter III of the SPEIS). As this ROD explains, relocating uranium, plutonium, and A/D/HE capabilities would be too expensive and risky.

23. Complex Transformation endangers human health.

Response: New facilities would be designed and operated to minimize risk to both workers and the general public during normal operations and in the event of an accident. Benefiting from decades of experience, NNSA employs modern processes; manufacturing technologies; and safety, environmental, security, and management procedures to protect against adverse health impacts (see Comment Response 14.K, Volume III, Chapter III of the SPEIS).

24. NNSA has not adequately addressed public comments about water usage, radioactive and toxic air emissions, impacts to humans, and impacts to agricultural lands or prime farmlands surrounding LANL resulting from past, current, and future operations of LANL.

Response: The environmental impacts of operating LANL are described in Chapter 4, Section 4.1 of Volume 1 of the SPEIS. The analysis examined surrounding land uses, water availability and usage, air quality and airborne emissions, surface and groundwater quality and discharges, human health, waste management, visual resources, noise, and other impacts of operating LANL. Chapter 5, Section 5.1 of Volume II of the SPEIS analyzes the potential environmental impacts of the alternatives evaluated in the SPEIS in the same media areas. See Comment Responses 14.E.11 through 14.E.14, Volume III, Chapter III of the SPEIS. For example, comment response 14.E.11 states that “due to concern expressed for the quality of agriculture in the LANL region, NMED (New Mexico Environment Department) collects and analyzes foodstuff samples as part of its surveillance program to ensure quality standards are met.” The 2008 LANL SWEIS (DOE/EIS-0380), and the ROD (73 FR 55833; Sept. 26, 2008) based on the analyses in it, presented NNSA's responses to similar comments in more detail. NNSA based its programmatic decisions affecting LANL on both the SPEIS and the SWEIS.

25. Albuquerque will begin drinking water from the Rio Grande on December 5, 2008. The Albuquerque Water Utility Authority (WUA), which oversees the project, has detected long-lived alpha-emitting radionuclides in the river. Although the levels of these radionuclides are below regulatory concern, the research shows that the current EPA standards for long-lived alpha-emitting radionuclides are not protective of the fetus and the young child. The WUA has asked LANL to reveal the extent of the radiation on the plateau and canyons that contribute to the river to no avail.

Response: Water quality and use at LANL are addressed in the SPEIS at Section 4.1.5 of Volume I. Impacts of complex transformation on water resources at LANL are addressed in Section 5.1.5 of Volume II. There is no indication that contamination from LANL is affecting Albuquerque's drinking water supply. According to a 2007 water quality report, gross alpha particle activity, radium-228, radium-226, and uranium were among regulated substances that were monitored but not detected (Albuquerque Bernilillo County Water Utility Authority, 2007 Drinking Water Quality Report). The 2007 water quality report may be accessed at http://www.abcwua.org/content/view/280/484/ (see Comment Response 14.E, Volume III, Chapter III of the SPEIS).

26. NNSA failed to address comments concerning elevated levels of radionuclides in the Rio Embudo Watershed.

Response: The levels of radionuclides from the fallout produced by atmospheric testing of nuclear weapons (e.g., cesium-137, strontium-90, and plutonium-239) are expected to be elevated at Trampas Lake and in the Sangre de Cristo Mountains in which the Embudo Valley lies. The Trampas Lake data agree with expectations for global fallout at this location and are not a result of LANL activities (see Comment Response 14.K.8, Volume III, Chapter III of the SPEIS).

27. Seismic fasteners, ties, and other protections should be used in the construction of the Radiological Laboratory, Utility, and Office Building (RLUOB) within the CMRR project.

Response: NNSA is building the RLUOB to the highest applicable seismic standards. Even though the structure is a radiological laboratory and would not normally be constructed to the same standards as a high hazard nuclear facility, NNSA is nevertheless constructing it to those higher standards (see Comment Response 14.K.7, Chapter III, Volume III of the SPEIS).

28. NNSA did not respond to the comment that it must expand air monitoring in downwind communities and should no longer hide under the grandfather clause for air emissions from its old facilities at LANL.

Response: Operating permits issued pursuant to Title V of the Clean Air Act at NNSA sites include requirements for monitoring emissions from sources and keeping records concerning those sources and their emissions. Monitoring of the environment in and around NNSA sites generally includes air, water, soil, and foodstuffs, and monitoring results are reported in annual environmental surveillance reports. Chapter 10 of Volume II of the SPEIS describes permits issued by regulatory authorities for NNSA facilities and operations. At LANL, NNSA complies with the Clean Air Act and its emissions are regulated by the New Mexico Environment Department (see Comment Response 14.D.2, Chapter III, Volume III of the SPEIS).

29. Will LANL become the second Waste Isolation Pilot Plant (WIPP) site in New Mexico under the Complex Transformation proposal?

Response: This comment concerns the disposal path for newly generated transuranic waste that could result from decisions made on complex transformation. The alternatives analyzed in the SPEIS could generate transuranic waste after WIPP's scheduled closure in 2035. At this time, DOE is not considering any legislative changes to extend WIPP's operation or to develop a second repository for transuranic waste. Any transuranic waste that is generated without a disposal pathway would be safely stored until disposal capacity becomes available (see Comment Response 14.M.4, Chapter III, Volume III of the SPEIS).

30. LANL has failed to install a reliable network of monitoring wells at the laboratory.

Response: LANL's groundwater monitoring program was discussed in the 2008 LANL SWEIS. Groundwater monitoring at LANL is conducted in compliance with the “Order on Consent for Los Alamos National Laboratory” (Consent Order), and consistent with the Interim Facility-wide Groundwater Monitoring Plan that was approved by the New Mexico Environment Department in June 2006. Some of the groundwater data at LANL are being reassessed due to potential residual drilling fluid effects. Drilling fluid effects are quantitatively assessed in LANL's Well-Screen Analysis Report, Rev. 2 (LA-UR-07-2852; May 2007). Fifty-two percent of the well screens evaluated in this report produce samples that are not significantly impacted by drilling fluids. LANL has initiated a program to better evaluate the wells and to rehabilitate wells that may be producing suspect results. LANL is using the results of a pilot study to develop a proposed course of action for approval by the New Mexico Environment Department. The process is established by and in compliance with the Consent Order (see Comment Responses 14.E.2 and 14.E.1, Chapter III, Volume III of the SPEIS).

31. The existing CMR facility is not safe and the seismic hazards at LANL are uncertain. The commenters assert that many of their specific comments concerning seismic issues at LANL were not properly addressed. The commenters also state that due to seismic risks, all plutonium operations at LANL should immediately cease.

Response: Section 4.1.6 of Volume I of the SPEIS addresses seismic issues at LANL and Comment Responses 7.0, 14.F.1, 14.K.12, 14.N.8 and 19.E provide additional information on the seismic issues at LANL and the Justification for Continued Operation under which the laboratory's facilities operate. NNSA decided to construct the CMRR-NF largely because the CMR facility cannot be modified to safely operate for many more years (see the basis for decision for plutonium research and development and operations above).

In addition to the comments that were essentially identical to ones submitted on the Draft SPEIS and to which NNSA responded to in the Final SPEIS, NNSA received the following new comments.

1. Some commenters stated they were unable to identify responses in the Final SPEIS to some of their comments.

Response: NNSA reviewed the comments it received to ensure that responses had been included in the Final SPEIS. Based on this review, NNSA concluded that it had provided appropriate responses for all comments and that responses to these commenters' submissions were included in the Final SPEIS.

2. The April 9, 2008, comments of the New Mexico Conference of Catholic Bishops, in a letter signed by Most Rev. Michael J. Sheehan, Archbishop of Santa Fe, and Most Rev. Ricardo Ramirez, CSB, Bishop of Las Cruces, were omitted from the SPEIS's text and compact disc (CD).

Response: NNSA does not have any record of receiving the letter identified above prior to issuing the Final SPEIS. However, NNSA contacted the commenter and requested a copy of the letter. That letter raised questions and issues related to: Potential violations of treaties; an international arms race; whether transformation of LANL will result in a more responsive infrastructure; whether the proposed transformation of the complex is based on a Nuclear Posture Review conducted before or after September 11, 2001; the type of Congressional support that has been received; and the costs and funding source for decontamination and decommissioning. NNSA reviewed these comments and concluded that the Final SPEIS addresses each of them.

3. A commenter asserted that the Scarboro community, within 5 miles of the Y-12 facility, is disproportionately impacted, historically and currently, by the pollutants released on the Oak Ridge Reservation. This commenter also urged NNSA to refrain from issuing a ROD for the SPEIS until it commissions and receives an independent study of canned subassembly/secondary reliability, indicating whether a UPF is actually necessary; and until NNSA prepares a supplemental EIS considering the nonproliferation impacts of the proposed action.

Response: NNSA conducted its Environmental Justice analysis consistent with the requirements of the applicable Executive Order and related guidance. Section 14.J of Volume III, Chapter III, addresses the Environmental Justice comments received during the comment period. The Scarboro community is identified as the closest developed area to Y-12 (see Volume II, Chapter 4, Section 4.9.2 of the SPEIS). The analysis in the SPEIS did not result in any disproportionately high and adverse impacts on any minority or low-income populations at Y-12 (see Volume II, Chapter 5, Sections 5.9.10, 5.9.11, and 5.9.12 of the SPEIS). The reasons for NNSA's decision to proceed with a UPF are set forth above in the discussion of uranium manufacturing and research and development. Comment Response 1.F, Volume III, Chapter III, addresses the nonproliferation impacts of Complex Transformation.

4. The Comment Response Document does not include several public petitions, including one from members of Santa Clara Pueblo supporting the comments made by the Tribal Council of Santa Clara Pueblo. Another petition circulated by youth in the Espanola Valley by the Community Service Organization del Norte (CSO del Norte) is also omitted. Many of the individual comment letters from people living in the Rio Embudo Watershed are missing as well. There is no listing of the names of these commenters in Tables 1.3-3, 1.3-4, 1.3-5 or 1.3-6. The listing of the “Campaign Comment Documents” fails to give any indication of the leaders of the campaigns or any geographic reference, unless one flips through that section of the document.

Response: NNSA received approximately 100,000 comment documents on the Draft SPEIS from federal agencies; state, local, and tribal governments; public and private organizations; and individuals. In addition, during the 20 public hearings that NNSA held, more than 600 speakers made oral comments. NNSA made every effort to include all comment documents in the SPEIS and to identify and to address every comment. Because it would be impractical to list the names of all commenters who submitted campaign e-mails, letters, and postcards, those names are provided electronically in the CD version of the SPEIS and on the project Web site (http://www.ComplexTransformationSPEIS.com). In addition, the CD contains additional information on the public comment period and includes meeting transcripts and signatories for campaign documents and petitions. With regard to the petition from members of the Santa Clara Pueblo, NNSA believes this petition was submitted as a comment on the 2008 LANL SWEIS and not as a comment on the SPEIS. NNSA responded to the petition in the ROD it issued in September that was based on the SWEIS. If any comment documents or petitions were omitted from the SPEIS, NNSA regrets that.

5. In Comment Response 14.K.11, Chapter III, Volume III of the SPEIS, NNSA, in response to a comment related to under-reported historic radiation emissions, stated that it was “unaware of any published CDC [Centers for Disease Control and Prevention] study with findings as described by the commenter.” The commenter had provided a reference to a Los Alamos Historical Document Retrieval and Assessment Project report for documentation of their claim that “DOE has grossly under-reported historic radiation emissions by nearly 60-fold.”

Response: NNSA reviewed the Los Alamos Historical Document Retrieval and Assessment Project report, and NNSA stands by Comment Response 14.K.11, Chapter III, Volume III of the SPEIS, which states that, “Chapter 4, Section 4.6.1, of the LANL SWEIS (LANL 2008) shows the radiation doses received over the past 10 years from LANL operations by the surrounding population and hypothetical maximally exposed individual (MEI). The annual dose to the hypothetical MEI has consistently been smaller than the annual 10-millirem radiation dose limit established for airborne emissions by the U.S. Environmental Protection Agency. The final LANL Public Health Assessment, by the Agency for Toxic Substances and Disease Registry, reports that “there is no evidence of contamination from LANL that might be expected to result in ill health to the community,” and that “overall, cancer rates in the Los Alamos area are similar to cancer rates found in other communities” (Agency for Toxic Substances and Disease Registry, Public Health Assessment, Final, Los Alamos National Laboratory, 2006).

6. A commenter noted that Comment Response 14.J.4, Chapter III, Volume III, of the SPEIS incorrectly refers the reader to Appendix D for a description of the accident analysis.

Response: The reference to Appendix D is incorrect. The correct reference should have been to Appendix C. NNSA regrets the confusion caused by this error.

7. A commenter stated that NNSA made a commitment to refrain from making a siting decision on the UPF until the Y-12 SWEIS is completed.

Response: NNSA did not make such a commitment. This ROD explains NNSA's decision to construct a UPF at Y-12 based on the analysis contained in the SPEIS and other factors. This decision is not a decision as to where at Y-12 the new facility would be located or its size. Those decisions will be made based on the more detailed analysis in the Y-12 SWEIS. Additionally, the Y-12 SWEIS will include one or more alternatives that do not include a UPF. The public will have the opportunity to review and comment on the Draft SWEIS when it is prepared.

8. With respect to the new section (Section 6.4) that NNSA added to the Final SPEIS to provide more information on the potential cumulative impacts of nuclear activities in New Mexico, one commenter stated that Pantex should be added to that cumulative assessment because it is just as close to WIPP and to LANL as WIPP and LANL are to each other. Another commenter stated that the impacts of the WSMR should be included in that assessment.

Response: NNSA added Section 6.4 in response to public comments on the Draft SPEIS that requested an analysis of cumulative impacts for the three DOE nuclear Facilities in New Mexico, as well as other major planned or proposed nuclear facilities in the state. In part, these comments stated that the regions of influence for LANL and SNL/NM overlap and that all three DOE sites are along the Rio Grande corridor in New Mexico. NNSA believes that Section 6.4 is adequate and responsive to public comments received regarding the cumulative impact assessment of nuclear activities in New Mexico. As Pantex is not located in New Mexico, and its region of influence does not extend into New Mexico, it was not included in Section 6.4. Also, because the WSMR does not conduct nuclear activities, it was not included in Section 6.4.

9. A commenter stated that the socioeconomic impacts described in the SPEIS are “incomplete and vague,” and asked for an explanation regarding the economic multiplier used in the analysis.

Response: NNSA reviewed this comment and believes that the socioeconomic analyses contained in the SPEIS are appropriate and comply with NEPA's requirements. The economic multipliers used in the SPEIS vary by location and are consistent with the multipliers estimated by the U.S. Bureau of Labor Statistics and multipliers used in other NEPA documents.

10. The SPEIS failed to address impacts on global warming.

Response: The SPEIS assesses the direct, indirect, and cumulative environmental impacts of the No Action Alternative and reasonable alternatives for the proposed action. The assessment of impacts includes, where appropriate, the direct and indirect contributions to the emission of greenhouse gases resulting from operation and transformation of the nuclear weapons complex. As to the programmatic alternatives analyzed in the SPEIS, the direct impacts would result from the construction and operation of major facilities involved in operations using SNM (e.g., a CPC, CNPC, CMRR-NF, UPF), and from the transportation of components, materials and waste. The emissions of carbon dioxide (CO2) from construction and operation of proposed major facilities are estimated in Chapter 5 (see Tables 5.1.4-1 and 5.1.4-3 in Section 5.1.4 of Chapter 5, Volume II of the SPEIS). The potential emissions from transportation are a direct function of numbers of trips and their distances. The significant differences among the various programmatic alternatives as to transportation also appear in Chapter 5 (see Section 5.10 of Chapter 5, Volume II of the SPEIS).

The indirect impacts of the programmatic alternatives would result primarily from the use of electricity that is generated from the mix of generating capacities (gas, coal, nuclear, wind, geothermal, etc.) operated by the utilities NNSA purchases power from; these utilities may alter that mix in the future regardless of the decisions NNSA makes regarding transformation of the complex. The use of electricity under the programmatic alternatives is shown in Chapter 5 (see Tables 5.1.3-1 and 5.1.3-2 in Section 5.1.3 of Chapter 5, Volume II of the SPEIS).

Overall, the release of greenhouse gases from the nuclear weapons complex constitutes a miniscule contribution to the release of these gases in the United States and the world. Overall U.S. greenhouse gas emissions in 2007 totaled about 7,282 million metric tons of CO2 equivalents, including about 6,022 million metric tons of CO2. These emissions resulted primarily from fossil fuel combustion and industrial processes. About 40 percent of CO2 emissions come from the generation of electrical power (Energy Information Administration, “Emissions of Greenhouse Gases in the United States 2007,” DOE/EIA-0573 [2007]).

As the impacts of greenhouse gas releases on climate change are inherently cumulative, NNSA, and the DOE as a whole, strive to reduce their contributions to this cumulatively significant impact in making decisions regarding their ongoing and proposed actions. DOE's efforts to reduce emissions of greenhouse gases extend from research on carbon sequestration and new energy efficient technologies to making its own operations more efficient in order to reduce energy consumption and thereby decrease its contributions to greenhouse gases.

NNSA considers the potential cumulative impact of climate change in making decisions regarding its activities, including decisions regarding continuing the transformation of the nuclear weapons complex. Many of these decisions are applicable to the broad array of NNSA's activities, and therefore are independent of decisions regarding complex transformation. For example, NNSA (and other elements of the Department) are entering into energy savings performance contracts at its sites, under which a contractor examines all aspects of a site's operation for ways to improve energy use and efficiency. Also, NNSA seeks to reduce its contribution to climate change through decisions regarding individual actions, such as pursuing LEED certification for its new construction and refurbishment of its aging infrastructure. Examples of these decisions include projects that replace aging boilers and chillers with equipment that is more energy efficient. Such projects are underway at Y-12, SNL/NM, and LANL (“DOE Announces Contracts to Achieve $140 Million in Energy Efficiency Improvements to DOE Facilities,” August 4, 2008, available at: http://www.energy.gov/6449.htm).

NNSA considered its contributions to the cumulative impacts that may lead to climate change in making the programmatic decisions announced in this ROD. These decisions will allow NNSA to reduce its greenhouse gas emissions by consolidating operations, modernizing its heating, cooling and production equipment, and replacing old facilities with ones that are more energy efficient. Many of these actions would not be feasible if NNSA had selected the No Action Alternative, which would have required it to maintain the Complex's outdated infrastructure. Federal regulations and DOE Orders require the Department of Energy to follow energy-efficient and sustainable principles in its siting, design, construction, and operation of new facilities, and in major renovations of existing facilities. These principles, which will apply to construction and operation of a UPF at Y-12 and the CMRR-NF at LANL, as well as to other facilities, include features that conserve energy and reduce greenhouse gas emissions.

Issued at Washington, DC, this 15th day of December 2008.
Thomas P. D'Agostino,
Administrator, National Nuclear Administration.

[FR Doc. E8-30193 Filed 12-18-08; 8:45 am]

BILLING CODE 6450-01-P